DEPARTMENT OF COMMERCE

National Oceanic and Atmospheric Administration

Announcement of the Dates and Locations of Public Scoping Meetings for the Proposed Designation of the Northwestern Hawaiian Islands National Marine Sanctuary

AGENCY: National Marine Sanctuary Program (NMSP), National Ocean Service (NOS), National Oceanic and Atmospheric Administration (NOAA), Department of Commerce (DOC).

ACTION: Scoping meetings.

SUMMARY: On December 4, 2000, Executive Order 13178 established the Northwestern Hawaiian Islands Coral Reef Ecosystem Reserve, pursuant to the National Marine Sanctuaries Amendments Act of 2000. The Reserve extends approximately 1200 nautical miles long and 100 nautical miles wide. Pursuant to this Act and the Executive Order, NOAA issued a notice of intent on January 19, 2001 (66 FR 5509) to designate the Reserve as a national marine sanctuary. A notice announcing the beginning of public scoping pursuant to the National Environmental Policy Act was issued on March 18, 2002 (67 FR 11996). This notice announces the dates and locations of the public scoping meetings.

DATES AND ADDRESSES: The public scoping process started on March 18, 2002, and ends on Friday, May 3, 2002. Written comments may be sent to NWHI Coral Reef Ecosystem Reserve, 6700 Kalaniana'ole Highway, #215, Honolulu, Hawaii 96825; faxed to (808) 397-2662; or emailed to nwhi@noaa.gov. Comments will be available for public review at the office address above. Summaries of public comments from initial scoping meetings will be available at hawaiireef.noaa.gov. Scoping meetings will be held as follows:

(1) Tuesday, April 9, 6:00 p.m., Waianae District Park, Multipurpose Building, 85-601 Farrington Highway, Waianae, Oahu, Hawaii.

(2) Wednesday, April 10, 6:00 p.m., Heeia Kea State Park Visitors Center Hall, 46-465 Kamehameha Highway, Kaneohe, Oahu, Hawaii.

(3) Thursday, April 11, 6:00 p.m., Maui Arts and Cultural Center, McCoy Studio Theater, One Cameron Way, Kahului, Maui, Hawaii.

(4) Thursday, April 11, 1:00 p.m., Department of Commerce Building, Room 1414, 14th and Constitution Avenue, NW., Washington, DC.

(5) Friday, April 12, 6:00 p.m., Kulana Oiwi Halau, Lot 24, Maunaloa Highway, Kaunakakai, Molokai, Hawaii.

(6) Monday, April 15, 6:00 p.m., Japanese Cultural Center, Manoa Room, 2454 South Beretania Street, Honolulu, Oahu, Hawaii.

(7) Tuesday, April 16, 6:00 p.m., Radisson Kauai Beach Resort, Jasmine Ballroom, 4331 Kauai Beach Drive, Lihue, Kauai, Hawaii.

(8) Wednesday, April 17, 6:00 p.m., University of Hawaii at Hilo, Marine Science Building, 200 West Kawili Street, Hilo, Hawaii.

(9) Thursday, April 18, 6:00 p.m., King Kamehameha's Kona Beach Hotel, Kamakahonu Ballroom, 75-5660 Palani Road, Kailua-Kona, Hawaii.

(10) Friday, April 19, 6:00 p.m., Lanai Public Library, Frazier Avenue, Lanai City, Lanai, Hawaii.

FOR FURTHER INFORMATION CONTACT: Aulani Wilhelm, (808) 397-2657, nwhi@noaa.gov.

SUPPLEMENTARY INFORMATION: The National Marine Sanctuaries Act (NMSA), 16 U.S.C. 1341 et seq., authorizes the Secretary of Commerce (Secretary) to designate discrete areas of the marine environment as national marine sanctuaries to protect their special conservation, recreational, ecological, historical, cultural, archaeological, scientific, educational, or esthetic qualities. The NMSA is administered by the National Oceanic and Atmospheric Administration (NOAA) through the National Marine Sanctuary Program (NMSP).

The public scoping process, including the public scoping meetings, is intended to solicit information and comments on the range and significance of issues related to the designation and management of a Northwestern Hawaiian Islands National Marine Sanctuary. The results of this scoping process will assist NOAA in formulating alternatives for a draft management plan and draft environmental impact statement for the proposed designation. NOAA encourages the public and interested parties to submit (via mail, e-mail, or fax) comments throughout the scoping period and to attend public scoping meetings at the locations listed above.

Each public scoping meeting will include a brief overview of the proposed Sanctuary region and its history, and an opportunity for members of the public to provide verbal comments through a round-table format. Each round table will accommodate 10-15 people and will have its own facilitator and note-taker who will work with the participants at that table to obtain their comments and ideas. All comments offered at the round-tables are considered part of the official record; however, participants are strongly encouraged to submit written comments to ensure that the full scope of their thoughts and ideas is considered by NOAA.

Authority: 16 U.S.C. Section 1431 et seq., Pub. L. 106-513.

(Federal Domestic Assistance Catalog Number 11.429 Marine Sanctuary Program)

Dated: March 20, 2002.
Jamison S. Hawkins,
Deputy Assistant Administrator for Ocean Services and Coastal Zone Management.

[FR Doc. 02-7187 Filed 3-25-02; 8:45 am]

BILLING CODE 3510-08-M